DEPARTMENT OF THE INTERIOR

Fish and Wildlife Service

Laramie Plains National Wildlife Refuges, Wyoming

AGENCY: Fish and Wildlife Service, Interior.

ACTION: Notice of Availability; Request for Comments.

SUMMARY: We, the U.S. Fish and Wildlife Service (Service, We) announces that the draft Comprehensive Conservation Plan (CCP) and Environmental Assessment (EA) for the Laramie Plains national wildlife refuges is available. The Laramie Plains national wildlife refuges include Bamforth National Wildlife Refuge (NWR), Hutton Lake NWR, and Mortenson Lake NWR. This draft CCP/EA describes how the Service intends to manage these refuges for the next 15 years. We request public comment.

DATES: To ensure consideration, we must receive your written comments on the draft CCP/EA by August 31, 2007.

ADDRESSES: Please provide written comments to Toni Griffin, Planning Team Leader, Division of Refuge Planning, Branch of Comprehensive Conservation Planning, Mountain-Prairie Region, P.O. Box 25486, Denver Federal Center, Denver, Colorado 80225-0486; via facsimile at 303-236-4792; or electronically to toni_griffin@fws.gov. A copy of the CCP/EA may be obtained by writing to U.S. Fish and Wildlife Service, Division of Refuge Planning, 134 Union Boulevard, Suite 300, Lakewood, Colorado 80228; or by download from http://mountain-prairie.fws.gov/planning.

FOR FURTHER INFORMATION CONTACT: Toni Griffin, 303-236-4378 or John Esperance, 303-236-4369.

SUPPLEMENTARY INFORMATION: The Laramie Plains national wildlife refuges include Bamforth National Wildlife Refuge (NWR), Hutton Lake NWR, and Mortenson Lake NWR and are managed by Service staff headquartered at the Arapaho NWR near Walden, Colorado. All three refuges are located within 15 miles of the town of Laramie, Wyoming.

The town of Laramie, Wyoming is positioned in a high plains basin ecosystem known as the Laramie Plains basin. Shallow depressions of the basin, within the relatively flat topography of the region, support wetland complexes that are unique to the area. These wetland complexes provide resting, nesting, and breeding areas for migratory birds in the semi-arid environment.

Bamforth NWR was established on January 29, 1932, by Executive Order 9321. Consisting of 1,166 acres, the refuge is located approximately 6 miles northwest of Laramie, Wyoming. The purpose of the refuge is to provide “a refuge and breeding ground for birds and wild animals.” The refuge is closed to public use.

Hutton Lake NWR was established on January 28, 1932, by Executive Order 5782. Consisting of 1,928 acres, the refuge is located approximately 10 miles southwest of Laramie, Wyoming. The purpose of the refuge is to provide “a refuge and breeding ground for birds and wild animals.” Current public use opportunities at the refuge include wildlife observation, wildlife photography, environmental education, and interpretation.

Mortenson Lake NWR was established in 1993 under the Endangered Species Act, to protect the Wyoming toad's last known population. The Wyoming toad was listed as an endangered species in 1984. The population at Mortenson Lake was found in 1987. The purpose of the refuge is “to conserve fish or wildlife which are listed as endangered or threatened species.” The refuge is closed to public use to prevent potential adverse impacts to the Wyoming toad.

This draft CCP/EA identifies and evaluates three alternatives for managing the refuges for the next 15 years. Alternative A, the No Action alternative, reflects the current management of the refuges. It provides the baseline against which to compare the other alternatives. Refuge habitats would continue to be managed on a minimal basis and opportunistic schedule that may maintain, or most likely would result in decline in, the diversity of vegetation and water quality and quantity in the wetlands. The Service would not develop any new management, research, restoration, education, or visitor services programs at the refuges. Refuge staff would continue to perform only limited research and no monitoring of refuge wildlife and habitats would occur. Public uses such as wildlife observation and wildlife photography would continue at present levels. Other priority public uses such as environmental education and interpretation would only be available on an informal basis. No new funding or staffing levels would occur and programs would continue to follow the same direction, emphasis, and intensity as they do at present.

Alternative B is the Service's proposed action and basis for the draft CCP. Management activities under alternative B would be increased. Upland habitats would be evaluated and managed for the benefit of migratory bird species. Monitoring and management of invasive species on the refuges would be increased. With additional staffing, the Service would collect in-depth baseline data for wildlife and habitats. Efforts would be increased in the operations and maintenance of natural resources on the refuges and to maintain and develop partnerships that promote wildlife and habitat research and management. An emphasis on adaptive management, including monitoring the effects of habitat management practices and use of the research results to direct ongoing management, would be a priority.

Under alternative C, refuge staff would rely on partnerships to achieve refuge goals and objectives. Refuge management activities would be increased and enhanced through the use of partnerships. Refuge staff would strive to accomplish refuge work through partnerships with others. An emphasis on adaptive management, including monitoring the effects of habitat management practices and use of the research results to direct ongoing management, would be a priority.

The proposed action (Alternative B) was selected because it best meets the purposes and goals of the refuges, as well as the mission and goals of the National Wildlife Refuge System. The proposed action will also benefit federally listed species, shore birds, migrating and nesting waterfowl, neotropical migrants and resident wildlife. Environmental education and partnerships will result in improved wildlife-dependent recreational opportunities. Cultural and historical resources as well as federally listed species will be protected.

Opportunity for public input will be provided at a public meeting to be scheduled soon. The specific date and time for the public meeting is yet to be determined, but will be announced via local media and a planning update. All information provided voluntarily by mail, by phone, or at public meetings (e.g., names, addresses, letters of comment, input recorded during meetings) becomes part of the official public record. If requested under the Freedom of Information Act by a private citizen or organization, the Service may provide copies of such information. The environmental review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: June 20, 2007.
James J. Slack,
Deputy Regional Director, Denver, Colorado.

[FR Doc. E7-14892 Filed 7-31-07; 8:45 am]

BILLING CODE 4310-55-P